DEPARTMENT OF HEALTH AND HUMAN SERVICES

Administration for Children and Families

Request for Public Comment Concerning the Redesign of Statewide Automated Child Welfare Information System (SACWIS) Requirements

AGENCY: Department of Health and Human Services, Administration for Children and Families, Administration on Children, Youth and Families, Children's Bureau.

ACTION: Request for Public Comment Concerning the Redesign of Statewide Automated Child Welfare Information System (SACWIS) Requirements.

SUMMARY: Sections 474(a)(3)(C) and (D) of the Social Security Act (the Act) provide States with the opportunity to access additional funding through title IV-E to plan, design, develop, implement, and operate a Statewide Automated Child Welfare Information System (SACWIS). The regulations at 45 CFR 1355.50-1355.57 were established in response to this legislation and were issued on December 22, 1993.

Several major legislative initiatives, including the Fostering Connections to Success and Increasing Adoptions Act of 2008 (Pub. L. 110-351), hereafter referred to as Fostering Connections, have been enacted since SACWIS regulations were finalized, and have had a significant impact on child welfare practice and the Information Technology (IT) systems used to support these programs. Given the breadth of these changes, we believe it is time to review and consider whether we should amend the current regulations at 45 CFR 1355.50-1355.57 to ensure that they comport with requirements in titles IV-B and IV-E of the Act, support title IV-E agencies seeking to use new technological tools to meet legislative requirements, and support programmatic initiatives, while providing additional flexibility to title IV-E agencies as permitted under law.

DATES: Written comments must be submitted to the office listed in the ADDRESSES section below on or before October 21, 2010.

ADDRESSES: Interested persons may submit written comments by any of the following methods:

• Federal eRulemaking Portal: http://www.regulations.gov. Follow the instructions for submitting comments.

• E-mail: DSSComments@acf.hhs.gov. Please include “Comments on SACWIS Federal Register Notice” in the subject line of the message.

• Mail or Courier Delivery: Terry Watt, Director, Division of State Systems, Children's Bureau, Administration on Children, Youth and Families, Administration for Children and Families, 1250 Maryland Avenue, SW., 8th Floor, Washington, DC 20024.

Instructions: Please be aware that mail sent to us may take an additional 3-4 days to process due to changes in mail handling resulting from the anthrax crisis of October 2001. If you choose to use an express, overnight, or other special delivery method, please ensure first that they are able to deliver to the above address during the normal workweek. We urge you to submit comments electronically to ensure they are received in a timely manner. All comments received will be posted without change to http://www.regulations.gov including any personal information provided.

FOR FURTHER INFORMATION CONTACT: Terry Watt, Director, Division of State Systems, Children's Bureau, 1250 Maryland Ave, SW., 8th Floor, Washington, DC 20024; (202) 690-8177.

SUPPLEMENTARY INFORMATION:

SACWIS Background

Sections 474(a)(3)(C) and (D) of the Act provide Federal funding for the planning, development and operation of a SACWIS. This funding was prompted by a critical need to provide: (1) More efficient, economical, and effective administration of the programs under titles IV-B and IV-E; and (2) support for automated systems in a comprehensive fashion to improve practices and ultimately result in better service delivery to children and families served by title IV-E agencies.

Current SACWIS regulations mandate that:

• Title IV-E agencies must build or have a comprehensive IT case management system with centralized, uniform functionality in order to qualify for a favorable cost allocation methodology and additional Federal Financial Participation (FFP).

• The system must collect and maintain the information needed for the Adoption and Foster Care Annual Reporting System (AFCARS) report.

• To the extent practicable, the system must provide for an interface with the title IV-E agency's child abuse and neglect data system and the systems used to support the title IV-A, IV-D, and XIX programs.

An Interim Final Rule concerning the requirements for States seeking to pursue enhanced funding for the development and operation of SACWIS systems was published in the Federal Register on December 22, 1993 (58 FR 67939). The Final Rule was published on May 19, 1995 and codified in Federal regulations at 45 CFR 1355.50-1355.57.

Limitations of Current SACWIS Regulations

Federal child welfare laws have changed considerably since the SACWIS regulations were issued fifteen years ago due to the enactment of several major child welfare legislative initiatives. For example, the Fostering Connections legislation made a number of changes to the title IV-E program including an option for Tribes to directly operate their own title IV-E programs. The resulting changes in statutes and policy have significantly influenced child welfare practices and the supporting automated systems. Title IV-E agency practice models have also changed, with some agencies using a mix of public and private agencies to provide services to children and families.

In addition to the legislative changes previously noted, information technology (IT) has grown more flexible. IT strategies, such as data standardization, Enterprise Architecture and Service Oriented Architecture have the potential to help title IV-E agencies integrate data and functions from disparate systems to meet program goals. However, current SACWIS regulations, as written, may limit IT options for meeting program needs of State and Tribal title IV-E agencies.

Opportunity to Comment

The Children's Bureau is committed to providing title IV-E agencies with additional flexibility to implement technological options they need to build economical, efficient, and effective information systems that support child welfare policy and practice. We are beginning the process of reviewing SACWIS regulations to consider providing title IV-E agencies with increased flexibility to design information systems to support child welfare policy and practice. Therefore we are soliciting comments from interested parties. Please comment on any aspects of SACWIS that you wish. We are particularly interested in obtaining input on:

1. What requirements in current SACWIS regulations inhibit or support the development of efficient, effective, and economical case management systems?

2. How can States and Tribes maintain the consistency of data that is defined, collected, and maintained in multiple systems to ensure a common understanding of the families' history and circumstances across the different systems, including the system(s) used to submit Federal reports?

3. What data do States and Tribes consider critical to their business practice model? Are there data needs for managing the title IV-E program that are not easily met by SACWIS systems and how are those data needs currently being addressed?

4. How can the systems used by States or Tribes be designed to support the seamless management of data across multiple systems over time? (e.g., when systems are replaced; when provider contracts expire or are terminated; or when families move from one provider to a different provider using a different system.)

5. How can the SACWIS regulations be modified to encourage flexibility and support different practice models while ensuring standardized data is available as needed?

ACF will consider the comments after the comment period closes to further assess SACWIS regulations.

Dated: July 15, 2010.
Bryan Samuels,
Commissioner, Administration on Children, Youth and Families.

[FR Doc. 2010-18038 Filed 7-22-10; 8:45 am]

BILLING CODE 4184-25-P